DEPARTMENT OF COMMERCE

National Oceanic and Atmospheric Administration

Proposed Information Collection; Comment Request; Alaska Pacific Halibut and Sablefish Fisheries: Individual Fishing Quotas (IFQs)

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 14, 2014.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instrument and instructions should be directed to Patsy A. Bearden, (907) 586-7228 or Patsy.Bearden@noaa.gov.

SUPPLEMENTARY INFORMATION:

I. Abstract

This request is for an extension of a currently approved information collection.

The National Marine Fisheries Service (NMFS) established the Individual Fishing Quotas (IFQs) Program to improve the long-term productivity of the sablefish and Pacific halibut fisheries by further promoting the conservation and management objectives of the Magnuson-Stevens Conservation Act, 16 U.S.C. 1801 et seq., as amended in 2006 (Magnuson-Stevens Act) (with respect to sablefish) and the Northern Pacific Halibut Act of 1982 (with respect to Pacific halibut) while retaining the character and distribution of the fishing fleets as much as possible. The IFQ Program includes several provisions, such as ownership caps and vessel use caps that protect small producers, part-time participants, and entry-level participants that otherwise could be adversely affected by excessive consolidation.

The IFQ Program also includes other restrictions to prevent the halibut and sablefish fisheries from domination by large boats or by any particular vessel class. NMFS designed the requirements to maintain a predominantly owner-operated fishery, which was a key characteristic of the halibut and sablefish fisheries prior to the implementation of the IFQ Program. The IFQ Program provides each fisherman an IFQ that can be used any time during the open season to allow each fisherman to set his/her own pace and fishing effort.

Under the IFQ Program, quota share (QS) represents a harvesting privilege for a person. Annually, NMFS issues IFQ to QS holders to harvest specified poundage. The specific amount of IFQ held by a person is determined by the number of QS units held, the total number of QS units issued in a specific regulatory area, and the total pounds of sablefish or halibut allocated for the IFQ fisheries in a particular year. Fishermen may harvest the IFQ over the entire fishing season, which extends approximately from March through November 15.

II. Method of Collection

Respondents have a choice of either electronic or paper forms. Methods of submittal include email of electronic forms, and mail and facsimile transmission of paper forms.

III. Data

OMB Control Number: 0648-0272.

Form Number: None.

Type of Review: Regular submission (extension of a currently approved collection).

Affected Public: Individuals or households; business or other for-profit organizations.

Estimated Number of Respondents: 1,686.

Estimated Time Per Response: Application for Eligibility to receive QS/IFQ (TEC) and QS holder form, Application for Transfer of QS/IFQ to or from a CQE, Application for Transfer of QS/IFQ (includes sweep-up); Application for Military Transfer, Application for Emergency Medical Transfer; 2 hours each; Identification of Ownership Interest, Application for IFQ/CDQ Hired Master Permit, Application for Registered Buyer permit and QS/IFQ Designated Beneficiary Form, Application for replacement of certificates, permits, or licenses, 30 minutes each; 200 hours for Application for a Non-profit to be Designated as a Community Quota Entity (CQE); 4 hours for Letter of Appeal; 18 minutes for Registered Buyer landing report; 6 minutes for IFQ Administrative Waiver; 12 minutes each for Prior Notice of Landing (PNOL); 15 minutes for IFQ Departure Report and Transshipment Authorization; and 6 minutes for Dockside Sales Receipt.

Estimated Total Annual Burden Hours: 10,354.

Estimated Total Annual Cost to Public: $13,557 in recordkeeping/reporting costs.

IV. Request for Comments

Comments are invited on: (a) Whether the proposed collection of information is necessary for the proper performance of the functions of the agency, including whether the information shall have practical utility; (b) the accuracy of the agency's estimate of the burden (including hours and cost) of the proposed collection of information;

(c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 11, 2014.
Gwellnar Banks,
Management Analyst, Office of the Chief Information Officer.

[FR Doc. 2014-19316 Filed 8-14-14; 8:45 am]

BILLING CODE 3510-22-P